DEPARTMENT OF LABOR

Mine Safety and Health Administration

[OMB Control No. 1219-0049]

Proposed Extension of Existing Information Collection; Hoist Operators' Physical Fitness

AGENCY: Mine Safety and Health Administration, Labor.

ACTION: Notice of request for public comments.

SUMMARY: The Department of Labor, as part of its continuing effort to reduce paperwork and respondent burden, conducts a pre-clearance consultation program to provide the general public and Federal agencies with an opportunity to comment on proposed and continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for 30 CFR 56.19057 and 57.19057 on hoist operators' physical fitness.

DATES: All comments must be received by midnight Eastern Standard Time on March 21, 2011.

ADDRESSES: Comments must be identified clearly with the rule title and may be submitted to MSHA by any of the following methods:

(1) Electronic mail: zzMSHA-Comments@dol.gov.

(2) Facsimile: 202-693-9441.

(3) Regular Mail: MSHA, Office of Standards, Regulations, and Variances, 1100 Wilson Boulevard, Room 2350, Arlington, VA 22209-3939.

(4) Hand Delivery or Courier: MSHA, Office of Standards, Regulations, and Variances, 1100 Wilson Boulevard, Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

Title 30 CFR 56.19057 and 57.19057 require the annual examination and certification of hoist operators' fitness by a qualified, licensed physician. The safety of all metal and nonmetal miners riding hoist conveyances is largely dependent on the attentiveness and physical capabilities of the hoist operator. Improper movements, overspeed, and overtravel of a hoisting conveyance can result in serious physical harm or death to all passengers. While operators of small mines are likely to have fewer hoists and hoist operators, Congress intended that the Federal Mine Safety and Health Act of 1977 (Mine Act) be enforced at all mining operations within its jurisdiction regardless of size and that information collection and record keeping requirements be consistent with efficient and effective enforcement of the Mine Act. Congress did recognize, however, that small operations may face problems in complying with some provisions of the Mine Act. Section 103(e) of the Mine Act directs the Secretary of Labor not to impose an unreasonable burden on small businesses when obtaining any information under the Mine Act. This information collection does not have a significant impact on a substantial number of small entities.

II. Desired Focus of Comments

MSHA is particularly interested in comments that:

• Evaluate whether the collection of information is necessary for the proper performance of the functions of the agency, including whether the information has practical utility;

• Evaluate the accuracy of the agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the information collection request can be obtained by contacting the person listed in the FOR FURTHER INFORMATION CONTACT section of this notice, or viewed on the Internet by selecting “Rules & Regs”, and then selecting “FedReg.Docs”. On the next screen, select “Paperwork Reduction Act Supporting Statement” to view documents supporting the Federal Register notice.

III. Current Actions

This notice contains the request for an extension of the existing collection of information in 30 CFR 56.19057 and 57.19057—Hoist Operators' Physical Fitness. MSHA does not intend to publish the results from this information collection and is not seeking approval to either display or not display the expiration date for the OMB approval of this information collection.

There are no certification exceptions identified with this information collection and the collection of this information does not employ statistical methods.

Type of Review: Extension.

Agency: Mine Safety and Health Administration.

OMB Number: 1219-0049.

Frequency: Annually.

Affected Public: Business or other for-profit.

Cost to Federal Government: none.

Total Burden Respondents: 70.

Total Number of Responses: 350.

Total Burden Hours: 12 hours.

Total Hour Burden Cost (operating/maintaining): $157,793.

Comments submitted in response to this notice will be summarized and included in the request for Office of Management and Budget approval of the information collection request; they will also become a matter of public record.

Dated: January 12, 2011.
Patricia W. Silvey,
Certifying Officer.

[FR Doc. 2011-952 Filed 1-18-11; 8:45 am]

BILLING CODE 4510-43-P